DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 27, 2014.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHI-I-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on July 17, 2014.
Donald Burger,
Chief, General Approvals and Permits.

New Special Permits
Application No. | Docket No. | Applicant | Regulation(s) affected | Nature of special permits thereof
16181-N |  | Arc Process, Inc., Pflugerville, TX | 49 CFR 178.50(e) | To authorize the manufacture, marking, sale and use of certain non-DOT specification cylinders similar to a DOT 4B except for the valve protection ring. (modes 1, 2, 3, 4).
16185-N |  | SMI Companies, Inc., Franklin, LA | 49 CFR 171.8 | To authorize the manufacture, marking, sale and use of a non-DOT specification portable tank with a capacity of 150 liters similar to a UN Portable T20 Tank for the transportation of bromoacetone. (modes 1, 2).
16187-N |  | Sandia National Laboratories, Albuquerque, NM | 49 CFR 173.222(e)(1) | To authorize the transportation in commerce of 70 pounds of solid lithium with an argon blanket in a non-DOT specification pressure vessel by motor vehicle. (mode 1).
16188-N |  | UTLX Manufacturing, LLC, Alexandria, LA | 49 CFR 179.100-4 and 179.100-12(b) | To authorize the manufacture, marking, sale and use of DOT 120J100W and 120J200W tank cars for transportation of Class 3 flammable and combustible liquids. (mode 2).
16190-N |  | Digital Wave Corporation, Centennial, CO | 49 CFR 180.205(g) | To authorize the transportation in commerce of certain cylinders that have been alternatively pressure tested. (modes 1, 2, 3, 4, 5).
16191-N |  | Solvay Fluorides LLC, Houston, TX | 49 CFR 173.205 | To authorize the transportation in commerce of Iodine Pentafluoride in a non-DOT specification welded, steel non-bulk packaging designed and constructed in accordance with Section VIII Division 1 of the ASME Code. (modes 1, 2, 3).
16193-N |  | CH&I Technologies, Inc., Santa Paula, CA | 49 CFR 180.209(a) | To authorize the transportation in commerce of certain DOT 4BW cylinders that are requalified every 10 years instead of every 5 years when used exclusively in non-corrosive service. (mode 1).
16194-N |  | U.S. Department of Defense (DOD), Scott AFB, IL | 49 CFR 171.23(a) | To authorize the transportation in commerce of certain compressed gases in non-DOT specification pressure receptacles. (modes 1, 3, 4).
16195-N |  | Jaguar Instruments, Inc., Houston, TX | 49 CFR 173.302a and 173.304a | To authorize the manufacture, marking, sale and use of non-DOT specification cylinders made in conformance with DOT Specification 3E with exceptions, for shipment of certain Division 2.1 and Division 2.2 gases. (modes 1, 2, 3, 4).
16198-N |  | Fleischmann's Vinegar Company, Inc., CERRITOS, CA | 49 CFR 172.300; 172.400; 172.700; 174.55; 177.834; 173.30; 173.31(d) | To authorize the transportation in commerce of vinegar solution in bulk without certain hazardous communication requirements by highway and rail. (modes 1, 2).

[FR Doc. 2014-17506 Filed 7-25-14; 8:45 am]

BILLING CODE 4909-60-P